NATIONAL AERONAUTICS AND SPACE ADMINISTRATION

[Notice: (15-102)]

NASA Advisory Council; Charter Renewal

AGENCY: National Aeronautics and Space Administration (NASA).

ACTION: Notice of renewal of the charter of the NASA Advisory Council.

SUMMARY: Pursuant to sections 14(b)(1) and 9(c) of the Federal Advisory Committee Act (Public Law 92-463), and after consultation with the Committee Management Secretariat, General Services Administration, the NASA Administrator has determined that renewal of the charter of the NASA Advisory Council is necessary and in the public interest in connection with the performance of duties. The renewed charter is for a two-year period ending October 21, 2017.

FOR FURTHER INFORMATION CONTACT: Ms. Marla King, NASA Advisory Council Administrative Officer, Advisory Committee Management Division, Office of International and Interagency Relations, (202) 358-1148, NASA, Washington, DC 20546-0001.

Patricia D. Rausch,
Advisory Committee Management Officer, National Aeronautics and Space Administration.

[FR Doc. 2015-28134 Filed 11-4-15; 8:45 am]

BILLING CODE 7510-13-P